DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of August, 2002.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) That sales or production, or both, of the firm or sub-division have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-40,752; Cooper Standard Automotive, North America Fluid Systems Div., Fairview, MI

TA-W-41,389; Triton Service, Inc., Electron Technology Div., Easton, PA

In the following cases, the investigation revealed that the criteria for eligibility have not been met for the reasons specified.

Increased imports did not contribute importantly to worker separations at the firm.

TA-W-41,281; Kimberly Clark Technical Papers, East Ryegate, VT

TA-W-41,288; International Truck and Engine Corp. A Subsidiary of Navistar International Corp., Springfield, OH

TA-W-41,487; CCS Ceramic Technologies, Ltd, a Subdivision of Benchmark Structural Ceramics, Inc., Cheektowaga, NY

TA-W-41,500; Bombardier Aerospace Learjet, Inc., Wichita, KS

TA-W-41,541; GD Resource, Inc., Sparks, NV

The investigation revealed that criteria (1) has not been met. A significant number or proportion of the workers did not become totally or parqtially separated from employment as required for certification.

TA-W-41,507; Atlas Copco Compressors, Inc., Holyoke, MA

Affirmative Determinations for Worker Adjustment Assistance

The following certifications have been issued; the date following the company name and location of each determination references the impact date for all workers of such determination.

TA-W-41,532; Seton Company, Leather Div., Saxton, PA: July 12, 2002

TA-W-41,551; Wabash Alloys, LLC, Syracuse, NY: March 1, 2001

TA-W-41,593; Seco/Warwick Corp., Meadville, PA: December 8, 2001.

TA-W-41,488; Terry Products, Inc., Kannapolis, NC: March 28, 2002.

TA-W-41,412; York International, Unitary Products Group, Elyria, OH: April 18, 2001.

TA-W-41,305; Cummins Diesel Recon, Charleston, SC: March 13, 2001.

TA-W-40,966 & A; Munro and Company, Inc., Dewitt Footwear, Dewitt, AR and Clarendon Footwear, Clarendon, AR: February 8, 2001.

TA-W-41,110; Advance Transformer, Div. Of Philips Lighting, Boscobel, WI: February 12, 2001.

TA-W-41,458; Ameripol Synpol Corp., Odessa, TX: March 25, 2001.

TA-W-41,650; Gerber Childrenswear, Inc., Ballinger, TX: June 3, 2001.

TA-W-41,665 & A; Scotty's Fashions, Inc., Lewistown, PA and Lehighton, PA: May 25, 2001.

TA-W-41,714; J.R. Simplot Co., Agribusiness Group, Mining and Manufacturing Div., Don Plant, Pocatello, ID: May 17, 2001.

TA-W-41,762; Valeo Climate Control, Decatur, IL: June 3, 2001.

Also, pursuant to Title V of the North American Free Trade Agreement Implementation Act (Pub. L. 103-182) concerning transitional adjustment assistance hereinafter called (NAFTA-TAA) and in accordance with Section 250(a), Subchaper D, Chapter 2, Title II, of the Trade Act as amended, the Department of Labor presents summaries of determinations regarding eligibility to apply for NAFTA-TAA issued during the months of August, 2002.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-06104; International Truck and Engine Corp., A Subsidiary of Navistar International Corp., Springfield, OH

NAFTA-TAA-06103; Bombardier Aerospace, Learjet, Inc., Wichita, KS

NAFTA-TAA-06275 &A; Scotty's Fashions, Inc., Lewistown, PA and Lehighton, PA

NAFTA-TAA-06069; Flexprint, a Subsidiary of Flexpaq, Moorestown, NJ

The investigation revealed that the criteria for eligibility have not been met for the reasons specified.

The investigation revealed that workers of the subject firm did not produce an article within the meaning of Section 250(a) of the Trade Act, as amended.

NAFTA-TAA-06153; Holiday Products, a Subsidiary of Rauch Industries, El Paso, TX

NAFTA-TAA-06374; IBM Global Services, AMS Div., Jacksonville, FL

Affirmative Determinations NAFTA-TAA

NAFTA-TAA-06291; Sulzer Pumps (US), Inc., Portland, OR: June 20, 2001.

NAFTA-TAA-06271; Industrial Coils, Baraboo, WI: June 12, 2001.

NAFTA-TAA-06189; Essilor of America, Manufacturing Operations, St. Petersburg, FL, Including Leased Workers of Tempmates, Adecco, Personnel One and Universal, St. Petersburg, FL, Ranstad, Pinellas Park, FL and TRC Staffing, Largo, FL

NAFTA-TAA-06240 & A; Price-Pfister, Machine Shop, Pacoima, CA and Fabrication Department, Pacoima, CA: May 15, 2001

NAFTA-TAA-06172; U.S. Manufacturing Co., Pasadena, CA: April 17, 2001.

I hereby certify that the aforementioned determinations were issued during the months of August, 2002. Copies of these determinations are available for inspection in Room C-5311, U.S. Department of Labor, 200 Constitution Avenue, NW., Washington, DC 20210 during normal business hours or will be mailed to persons who write to the above address.

Dated: August 16, 2002.
Edward A. Tomchick,
Director, Division of Trade Adjustment Assistance.

[FR Doc. 02-22965 Filed 9-9-02; 8:45 am]

BILLING CODE 4510-30-P